DEPARTMENT OF COMMERCE

National Oceanic and Atmospheric Administration

RIN 0648-XW98

Marine Mammals; File No. 15430

AGENCY: National Marine Fisheries Service (NMFS), National Oceanic and Atmospheric Administration (NOAA), Commerce.

ACTION: Notice; issuance of permit.

SUMMARY: Notice is hereby given that the Louisville Zoological Garden, 1100 Trevilian Way, P.O. Box 37250, Louisville, KY 40233 has been issued a permit to import one South African fur seal (Arctocephalis pusillus) for public display.

ADDRESSES: The permit and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Avenue South, Saint Petersburg, FL 33701; phone (727) 824-5312; fax (727) 824-5309.

FOR FURTHER INFORMATION CONTACT: Jennifer Skidmore or Kristy Beard, (301) 713-2289.

SUPPLEMENTARY INFORMATION: On March 31, 2010, notice was published in the Federal Register (75 FR 16077) that a request for a public display permit to import one female adult South African fur seal from the Toronto Zoo, Ontario, Canada to the Louisville Zoological Garden, had been submitted by the above-named organization. The requested permit has been issued under the authority of the Marine Mammal Protection Act of 1972, as amended (16 U.S.C. 1361 et seq.), the regulations governing the taking and importing of marine mammals (50 CFR part 216).

In compliance with the National Environmental Policy Act of 1969 (42 U.S.C. 4321 et seq.), a final determination has been made that the activity proposed is categorically excluded from the requirement to prepare an environmental assessment or environmental impact statement.

Dated: June 29, 2010.
P. Michael Payne,
Chief, Permits, Conservation and Education Division, Office of Protected Resources, National Marine Fisheries Service.

[FR Doc. 2010-16377 Filed 7-2-10; 8:45 am]

BILLING CODE 3510-22-S